DEPARTMENT OF HEALTH AND HUMAN SERVICES

National Institutes of Health

Warren G. Magnuson Clinical Center; Amended Notice of Meeting

Notice is hereby given of a change in the meeting of the Board of Governors of the Warren Grant Magnuson Clinical Center, September 20, 2002, 9 a.m. to September 20, 2002, 12 p.m., National Institutes of Health, Clinical Center Medical Board Room 2C116, 9000 Rockville Pike, Bethesda, MD 20892 which was published in the Federal Register on August 15, 2002, 67 FR 53359.

The meeting will be closed to the public from 11 a.m. to adjournment in accordance with the provisions set forth in section 552b(c)(6), Title 5 U.S.C., as amended for discussion of personal qualifications and performance, the disclosure of which would constitute a clearly unwarranted invasion of personal privacy.

Dated: September 16, 2002.
LaVerne Y. Stringfield,
Director, Office of Federal Advisory Committee Policy.

[FR Doc. 02-24172 Filed 9-23-02; 8:45 am]

BILLING CODE 4140-01-M